DEPARTMENT OF THE INTERIOR

Bureau of Land Management

[AZ-110-1492-ES; AZA-33679]

Notice of Realty Action; Recreation and Public Purposes Act Classification; Arizona

AGENCY: Bureau of Land Management, Interior.

ACTION: Notice of realty action.

SUMMARY: The following public lands in Mohave County, Arizona, have been examined by the Bureau of Land Management (BLM) and found suitable for classification for lease or conveyance to Mohave Community College under the provisions of the Recreation and Public Purposes (R&PP) Act, as amended, 43 U.S.C. 869 et seq., and under Sec. 7 of the Taylor Grazing Act, 43 U.S.C. 315(f), and Executive Order No. 6910.

Gila and Salt River Meridian

T. 41 N., R. 15 W.

Sec. 35, N1/2SE1/4 (area south and east of Interstate 15 only).

The area described contains, 40 acres, more or less.

The Mohave Community College has not applied for more than the 6,400 acre limitation for recreation uses in a year.

The Mohave Community College has submitted a statement in compliance with the regulations at 43 CFR 2741.4(b). The Mohave Community College proposes to use the land as a community college campus. The initial phase of construction will be a single building for several offices and classrooms. Later phases would include additional classrooms, laboratories, vocational instructional areas, faculty and administrative offices, support space, student activity areas, conference centers, performing arts venues, and fields and courts for sports activities.

DATES: Submit comments on or before October 4, 2007.

ADDRESSES: Detailed information including but not limited to, a proposed development plan and documentation relating to compliance with applicable environmental and cultural resource laws, is available for review at the BLM, Arizona Strip Field Office, 345 E. Riverside Drive, St. George, UT 84790.

FOR FURTHER INFORMATION CONTACT: Laurie Ford, Team Lead, 435-688-3271.

SUPPLEMENTARY INFORMATION: The lands are not needed for any Federal purposes.

Lease or conveyance of the lands for recreational or public purposes use is in conformance with the Arizona Strip District Resource Management Plan and Final Environmental Impact Statement, dated January 1992, as amended, and would be in the public interest.

All interested parties will receive a copy of this notice once it is published in the Federal Register. The notice will be published in the newspaper of local circulation for three consecutive weeks. The regulations do not require a public meeting.

Upon publication of this notice in the Federal Register, the lands will be segregated from all other forms of appropriation under the public land laws, including the general mining laws, except for lease or conveyance under the R&PP Act and leasing under the mineral leasing laws.

The lease or conveyance of the land, when issued, will be subject to the following terms, conditions, and reservations:

1. A right-of-way thereon for ditches and canals constructed by the authority of the United States Act of August 30, 1890, 26 Stat. 391 (43 U.S.C. 945).

2. Provisions of the R&PP Act and to all applicable regulations of the Secretary of the Interior.

3. All minerals shall be reserved to the United States, together with the right to prospect for, mine and remove the minerals.

4. All valid existing rights documented on the official public land records at the time of lease or patent issuance.

5. CERCLA Term: “Pursuant to the requirements established by Section 120(h) of the Comprehensive Environmental Response, Compensation and Liability Act (42 U.S.C. 9620 (h)) (CERCLA), as amended by the Superfund Amendments and Reauthorization Act of 1988 (100 Stat. 1670), notice is hereby given that the above-described land has been examined and no evidence was found to indicate that any hazardous substances had been stored for one year or more, nor had any hazardous substances been disposed of or released on the subject property.”

6. Indemnification Term: “All lessees, purchasers, or patentees, by accepting a lease or patent, covenant and agree to indemnify, defend, and hold the United States harmless from any costs, damages, claims, causes of action, penalties, fines, liabilities, and judgments of any kind or nature arising from the past, present, and future acts or omissions of the patentees or their employees, agents, contractors, or lessees, or any third-party, arising out of or in connection with the patentees use, occupancy, or operations on the patented real property. This indemnification and hold harmless agreement includes, but is not limited to, acts and omissions of the patentees and their employees, agents, contractors, or lessees, or any third party, arising out of or in connection with the use and/or occupancy of the patented real property which has already resulted or does hereafter result in: (1) Violations of Federal, State, and local laws and regulations that are now or may in the future become, applicable to the real property; (2) Judgments, claims, or demands of any kind assessed against the United States; (3) Costs, expenses, or damages of any kind incurred by the United States; (4) Releases or threatened releases of solid or hazardous waste(s) and/or hazardous substances(s), as defined by Federal or State environmental laws, off, on, into or under land, property and other interests of the United States; (5) Activities by which solids or hazardous substances or wastes, as defined by Federal and State environmental laws are generated, released, stored, used or otherwise disposed of on the patented real property, and any cleanup response, remedial action or other actions related in any manner to said solid or hazardous substances or wastes; or (6) Natural resource damages as defined by Federal and State law. Patentee shall stipulate that it will be solely responsible for compliance with all applicable Federal, State and local environmental and regulatory provisions, throughout the life of the facility, including any closure or post-closure requirements that may be imposed with respect to any physical plant or facility upon the real property under any Federal, State or local environmental laws or regulatory provisions. This covenant shall be construed as running with the above described parcel of land patented or otherwise conveyed by the United States, and may be enforced by the United States in a court of competent jurisdiction.

7. Terms and conditions identified through the site-specific environmental analysis.

8. Those rights granted to Mohave County Board of Supervisors for a road right-of-way AZA-21199.

9. Those rights granted to Rio Virgin Telephone Co. for a telephone line right-of-way AZA-30658.

10. Those rights granted to Thomas Cheney for a road right-of-way AZA-31716.

11. Those rights granted to Dixie Escalante Electric for a power line right-of-way AZA-24946.

12. Those rights granted to Arizona Department of Transportation for a highway and drainage easements right-of-way AZAR-031230.

Classification Comments

Interested persons may submit comments involving the suitability of the land for development of a community college campus. Comments on the classification are restricted to whether the land is physically suited for the proposal, whether the use will maximize the future use or uses of the land, whether the use is consistent with local planning and zoning, or if the use is consistent with state and Federal programs.

Application Comments

Interested persons may submit comments regarding the specific use proposed in the application and plan of development, whether the BLM followed proper administrative procedures in reaching the decision, or any other factor not directly related to the suitability of the lands for a community college campus. Any adverse comments will be reviewed by the BLM State Director. In the absence of any adverse comments, the classification will become effective on October 19, 2007. The lands will not be offered for conveyance until after the classification becomes effective.

Before including your address, phone number, e-mail address, or other personal identifying information in your comment, you should be aware that your entire comment—including your personal identifying information—may be made publicly available at any time. While you can ask us in your comment to withhold your personal identifying information from public review, we cannot guarantee that we will be able to do so.

(Authority: 43 CFR 2741.5)

Dated: July 19, 2007.
Becky J. Hammond,
Field Manager.

[FR Doc. E7-16333 Filed 8-17-07; 8:45 am]

BILLING CODE 4310-32-P